DEPARTMENT OF EDUCATION

Submission for OMB Review; Comment Request

AGENCY: Department of Education.

SUMMARY: The Leader, Information Policy and Standards Team, Regulatory Information Management Services, Office of Management invites comments on the submission for OMB review as required by the Paperwork Reduction Act of 1995.

DATES: Interested persons are invited to submit comments on or before September 6, 2006.

ADDRESSES: Written comments should be addressed to the Office of Information and Regulatory Affairs, Attention: Rachel Potter, Desk Officer, Department of Education, Office of Management and Budget, 725 17th Street, NW., Room 10222, New Executive Office Building, Washington, DC 20503 or faxed to (202) 395-6974.

SUPPLEMENTARY INFORMATION: Section 3506 of the Paperwork Reduction Act of 1995 (44 U.S.C. Chapter 35) requires that the Office of Management and Budget (OMB) provide interested Federal agencies and the public an early opportunity to comment on information collection requests. OMB may amend or waive the requirement for public consultation to the extent that public participation in the approval process would defeat the purpose of the information collection, violate State or Federal law, or substantially interfere with any agency's ability to perform its statutory obligations. The Leader, Information Policy and Standards Team, Regulatory Information Management Services, Office of Management, publishes that notice containing proposed information collection requests prior to submission of these requests to OMB. Each proposed information collection, grouped by office, contains the following: (1) Type of review requested, e.g., new, revision, extension, existing or reinstatement; (2) Title; (3) Summary of the collection; (4) Description of the need for, and proposed use of, the information; (5) Respondents and frequency of collection; and (6) Reporting and/or Recordkeeping burden. OMB invites public comment.

Dated: August 1, 2006.
Leo J. Eiden,
Leader, Information Policy and Standards Team, Regulatory Information Management Services, Office of Management.

Office of Planning, Evaluation and Policy Development.

Type of Review: Revision.

Title: Annual Mandatory Collection of Elementary and Secondary Education Data for the Education Data Exchange Network (EDEN).

Frequency: Annually.

Affected Public: State, Local, or Tribal Gov't, SEAs or LEAs.

Reporting and Recordkeeping Hour Burden:

Responses: 17,152.

Burden Hours: 570,804.

Abstract: The Education Data Exchange Network (EDEN) is in the implementation phase of a multiple year effort to consolidate the collection of education information about States, Districts, and Schools in a way that improves data quality and reduces paperwork burden for all of the national education partners. To minimize the burden on the data providers, EDEN seeks the transfer of the proposed data as soon as it has been processed for State, District, and School use. These data will then be stored in EDEN and accessed by federal education program managers and analysts as needed to make program management decisions. This process will eliminate redundant data collections while providing for the timeliness of data submission and use.

Additional Information: The Department of Education is specifically requesting the data providers in each State Education Agency review the proposed data for availability, consistency with state data definitions, and appropriate use. Our responses to the public comments that were submitted in May and June are found in Attachment E. There are two additional issues state data providers are asked to address.

The Department proposes collecting the EDEN data groups from the Civil Rights Survey directly from the districts in 2006 as it has historically collected that data. It is the Department's intent to move this data collection into the EDEN Submission System in the future and ask state education agencies to submit the data for their districts. The Department plans to specify in the 2007-2008 EDEN paperwork submission request that all civil rights data groups and categories be included in the EDEN Submission System beginning with the 2007-2008 school year. During a transition period through 2009-2010, the Department may continue to use the Web-based EDEN Survey Tool or other mechanism to collect these data directly from districts in those states that are unable to report required civil rights items from the SEA level through EDEN. The Department would like to know what challenges this decision will put on the states and how the Department might work with the states to mitigate any problems.

In response to the public comment regarding the challenges of submitting the whole EDEN data set and the need to prioritize the EDEN data and focus on the submission of the most important and useful data, the Department has developed a prioritized phase-in plan to the states that is presented in Attachment B of the EDEN 2006-2007 data collection package. All EDEN data will still need to be submitted within the two-year transition period but the expectation to submit will be adjusted based on which data is most available and most highly required by the Department. The EDEN Submission System will receive all requested EDEN data from every state that can submit any EDEN data from the 2006-2007 school year. The Department would like to know if this adjustment will help the States make more timely submissions of EDEN data and if States agree with the prioritization of the data groups.

In this issue of the Federal Register the Department is publishing Proposed Guidance on Maintaining, Collecting, and Reporting Data on Race and Ethnicity to the U.S. Department of Education. Data on race and ethnicity in the format outlined in the proposed guidance will be required to be reported to ED no later than the 2009-2010 school year. Those States that can provide it sooner are encouraged to do so. Since this guidance may directly and immediately affect the collection of EDEN data, the Department encourages relevant public comment on the impact of this guidance on the collection of EDEN data as part of this EDEN paperwork clearance process.

Requests for copies of the information collection submission for OMB review may be accessed from http://edicsweb.ed.gov, by selecting the “Browse Pending Collections” link and by clicking on link number 3017. When you access the information collection, click on “Download Attachments” to view. Written requests for information should be addressed to U.S. Department of Education, 400 Maryland Avenue, SW., Potomac Center, 9th Floor, Washington, DC 20202-4700. Requests may also be electronically mailed to ICDocketMgr@ed.gov or faxed to 202-245-6623. Please specify the complete title of the information collection when making your request.

Comments regarding burden and/or the collection activity requirements should be electronically mailed to ICDocketMgr@ed.gov. Individuals who use a telecommunications device for the deaf (TDD) may call the Federal Information Relay Service (FIRS) at 1-800-877-8339.

[FR Doc. E6-12695 Filed 8-4-06; 8:45 am]

BILLING CODE 4000-01-P